ELECTION ASSISTANCE COMMISSION

Notice; Request for Public Comment

AGENCY: U.S. Election Assistance Commission.

ACTION: Notice; correction.

SUMMARY: The U.S. Election Assistance Commission published a document in the Federal Register on March 9, 2023 regarding public comments on its annual review of the Voluntary Voting System Guidelines. The notice contained an incorrect address.

FOR FURTHER INFORMATION CONTACT: Paul Aumayr, phone (301) 960-1216, email: paumayr@eac.gov; U.S. Election Assistance Commission, 633 3rd Street NW, Suite 200, Washington, DC 20001.

SUPPLEMENTARY INFORMATION:

Correction

In the Federal Register of March 9, 2023 in FR Doc. 2023-04783, on page 14613 in the first column, correct the ADDRESSES caption to read:

ADDRESSES:

Submission of Comments: Comments on updates to VVSG 2.0 should be submitted electronically via https://www.regulations.gov/document/EAC_FRDOC_0001-0193 (FDMS docket ID: EAC-2023-0001). Written comments on the proposed information collection can also be sent to the U.S. Election Assistance Commission, 633 3rd Street NW, Suite 200, Washington, DC 20001, Attn: Testing & Certification.

Obtaining a copy of VVSG 2.0: To obtain a copy of the VVSG 2.0 Requirements (1) Download a copy at https://www.eac.gov/sites/default/files/TestingCertification/Voluntary_Voting_System_Guidelines_Version_2_0.pdf; or (2) write to the EAC (including your address and phone number) at U.S. Election Assistance Commission, 633 3rd Street NW, Suite 200, Washington, DC 20001, Attn: Testing & Certification.

Amanda Joiner,
Acting General Counsel, U.S. Election Assistance Commission.

[FR Doc. 2023-05342 Filed 3-15-23; 8:45 am]

BILLING CODE P